COMMISSION ON CIVIL RIGHTS

Notice of Public Meeting of the Nevada State Advisory Committee To Receive Information To Determine if Whether Municipal Fines and Fees Are an Issue of Concern in Nevada

AGENCY: U.S. Commission on Civil Rights.

ACTION: Announcement of public meeting.

DATES: Wednesday, March 15, 2017.

Time: 9:00 a.m.-5:00 p.m. (PST).

Notice is hereby given, pursuant to the provisions of the rules and regulations of the U.S. Commission on Civil Rights (Commission) and the Federal Advisory Committee Act (FACA) that a meeting of the Nevada Advisory Committee (Committee) to the Commission will be held from 9:00 a.m. to 5:00 p.m. (Pacific Time) Wednesday, March 15, 2017, for the purpose of receiving information on the civil rights issues regarding municipal fines and fees in Nevada. There will be two meeting locations held simultaneously; the primary meeting will be held in Las Vegas from 9:00 a.m. to 5:00 p.m. PST at the Nevada Department of Employment, Training and Rehabilitation, 2800 E. St. Louis Ave., Las Vegas, NV 89104 in First floor conference rooms A, B and C. The second meeting will be in Reno from 9:00 a.m. to 5:00 p.m. PST at the Nevada Department of Employment, Training and Rehabilitation, 1325 Corporate Boulevard, Reno, NV 89502 in the large conference room.

Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012. They may be faxed to the Commission at (312) 353-8311, or emailed Ana Victoria Fortes at afortes@usccr.gov. Hearing-impaired persons who will attend the meeting and require the services of a sign language interpreter should contact the Regional Office at least ten (10) working days before the scheduled date of the meeting. Persons who desire additional information may contact the Regional Programs Unit at (213) 894-3437.

Records and documents discussed during the meeting will be available for public viewing prior to and after the meeting at http://facadatabase.gov/committee/meetings.aspx?cid=261. Please click on the “Meeting Details” and “Documents” links. Records generated from this meeting may also be inspected and reproduced at the Regional Programs Unit, as they become available, both before and after the meeting. Persons interested in the work of this Committee are directed to the Commission's Web site, http://www.usccr.gov, or may contact the Regional Programs Unit at the above email or street address.

Agenda

I. Welcome

II. Panel Presentations

a. Government Officials and Law Enforcement

b. Elected Officials

c. Policy Experts

d. Advocates and Community Members

III. Public Comment

IV. Adjournment

Dated: February 27, 2017.
David Mussatt,
Supervisory Chief, Regional Programs Unit.

[FR Doc. 2017-04092 Filed 3-2-17; 8:45 am]

BILLING CODE P